DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 9,618,309 (Navy Case No. 103257): APPARATUS AND ELECTRIC PRIMER OUTPUT DATA TESTING METHOD//Patent No. 9,617,612 (Navy Case No. 103025): STRUCTURES AND METHODS OF MANUFACTURE OF MICROSTRUCTURES WITHIN A STRUCTURE TO SELECTIVELY ADJUST A RESPONSE OR RESPONSES OF RESULTING STRUCTURES OR PORTIONS OF STRUCTURES TO SHOCK INDUCED DEFORMATION OR FORCE LOADING//and Patent No. 9,620,242 (Navy Case No. 200261): METHODS AND APPARATUSES INCLUDING ONE OR MORE INTERRUPTED INTEGRATED CIRCUIT OPERATIONS FOR CHARACTERIZING RADIATION EFFECTS IN INTEGRATED CIRCUITS.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil.

Authority: 35 U.S.C. 207, 37 CFR part 404.

Dated: May 2, 2017.
A.M. Nichols,
Lieutenant Commander, Judge Advocate General's Corps, U.S. Navy, Federal Register Liaison Officer.

[FR Doc. 2017-09286 Filed 5-5-17; 8:45 am]

BILLING CODE 3810-FF-P